DEPARTMENT OF THE INTERIOR

Fish and Wildlife Service

Notice of Receipt of Applications for Permit

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address below) and must be received within 30 days of the date of this notice.

Applicant: Ralph M. Marcum, Columbiana, AL, PRT-050043.

The applicant requests a permit to import the sport-hunted trophy of one male bontebok (Damaliscus pygargus dorcas) culled from a captive herd maintained under the management program of the Republic of South Africa, for the purpose of enhancement of the survival of the species.

Applicant: Jeffrey K. Chaulk, Gaylord, MI, PRT-050038.

The applicant requests a permit to import the sport-hunted trophy of one male bontebok (Damaliscus pygargus dorcas) culled from a captive herd maintained under the management program of the Republic of South Africa, for the purpose of enhancement of the survival of the species.

Applicant: Kenneth A. Rowland, Albuquerque, NM, PRT-049995.

The applicant requests a permit to import the sport-hunted trophy of one male bontebok (Damaliscus pygargus dorcas) culled from a captive herd maintained under the management program of the Republic of South Africa, for the purpose of enhancement of the survival of the species.

Applicant: Gary L. Keel, Duluth, GA, PRT-049993.

The applicant requests a permit to import the sport-hunted trophy of one male bontebok (Damaliscus pygargus dorcas) culled from a captive herd maintained under the management program of the Republic of South Africa, for the purpose of enhancement of the survival of the species.

Applicant: James R. Rhodes, III, North Little Rock, AR, PRT-049898.

The applicant requests a permit to import the sport-hunted trophy of one male bontebok (Damaliscus pygargus dorcas) culled from a captive herd maintained under the management program of the Republic of South Africa, for the purpose of enhancement of the survival of the species.

Applicant: Kimbel Jay Stuart, Nicasio, CA, PRT-049806.

The applicant requests a permit to import the sport-hunted trophy of one male bontebok (Damaliscus pygargus dorcas) culled from a captive herd maintained under the management program of the Republic of South Africa, for the purpose of enhancement of the survival of the species.

Applicant: National Marine Fisheries Service, La Jolla, CA, PRT-844694.

The applicant requests re-issuance of a permit to import and/or introduce from the sea biological samples collected from wild, captive held, and/or captive hatched leatherback sea turtle (Dermochelys coriacea), hawksbill sea turtle (Eretmochelys imbricata), green sea turtle (Chelonia mydas), kemp's ridley sea turtle (Lepidochelys kempii), and olive ridley sea turtle (L. olivacea) for the purpose of scientific research. Samples are to be collected opportunistically from salvaged specimens and provided to their facility in its capacity as a National Sea Turtle tissue repository. This notification covers activities conducted by the applicant over a five year period.

Applicant: The Field Museum, Chicago, IL, PRT-049888.

The applicant requests a permit to import one skeleton and one fluid preserved museum specimen of brown lemur (Eulemur fulvus), and one fluid preserved specimen of diademed sifaka (Propithecus diadema) that were confiscated by the Malagasy government and transferred to the Universite ’ d'Antananarivo, Antananarivo, Madagascar, for the purpose of scientific research.

Applicant: Dr. L. Elizabeth Rasmussen, Oregon Graduate Institute of Science and Technology, Beaverton, OR, PRT—042224.

The applicant requests a permit to export biological samples collected from captive-born/captive-held Asian elephants (Elephas maximus) to the Horticultural Research Institute of New Zealand, Palmerston North & Auckland, New Zealand, for the purpose of scientific research. This notification covers activities conducted by the applicant over a five year period

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18).

Written data, comments, or requests for copies of these complete applications or requests for a public hearing on these applications should be submitted to the Director (address below) and must be received within 30 days of the date of this notice. Anyone requesting a hearing should give specific reasons why a hearing would be appropriate. The holding of such a hearing is at the discretion of the Director.

Applicant: Richard J. Lorenzo, Bay City, MI, PRT-049975.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: November 9, 2001.
Michael S. Moore,
Senior Permit Biologist, Branch of Permits, Division of Management Authority.

[FR Doc. 01-29792 Filed 11-29-01; 8:45 am]

BILLING CODE 4310-55-P